FEDERAL COMMUNICATIONS COMMISSION

[WC Docket No. 04-424; DA 06-1048]

SBC and Global Crossing Petitions for Declaratory Ruling

AGENCY: Federal Communications Commission.

ACTION: Notice, termination of proceeding.

SUMMARY: This document provides notice of the termination of the petitions for declaratory ruling of SBC and Global Crossing. The petitions for declaratory ruling have been withdrawn by the petitioners.

DATES: Effective June 30, 2006, unless the Wireline Competition Bureau receives an opposition to the termination prior to that date.

ADDRESSES: Oppositions to the proceeding termination should be mailed to the Commission's Secretary through the Commission's contractor, Natek, Inc., at 236 Massachusetts Avenue, NE., Suite 110, Washington, DC 20002.

FOR FURTHER INFORMATION CONTACT: Lynne Hewitt Engledow, Wireline Competition Bureau, Pricing Policy Division, (202) 418-2350.

SUPPLEMENTARY INFORMATION: On October 27, 2004 Global Crossing filed a petition for declaratory ruling with the Commission seeking clarification of the meaning and application of two provisions of the Southwestern Bell Telephone, L.P. interstate access tariff. On November 12, 2004, SBC filed a petition for declaratory ruling with the Commission seeking affirmation that its tariff permits it to use the telephone numbers of the calling and called parties to determine whether to bill long distance carriers interstate or intrastate terminating switched access rates for wireless originated long distance calls when there is no accurate or reliable information included in the call detail. The Commission subsequently sought comment on the petitions. On April 20, 2006, Global Crossing filed a letter withdrawing its petition. AT&T, Inc. filed a letter withdrawing its petition on April 21, 2006. The Global Crossing and SBC petitions are dismissed without prejudice. This proceeding will be terminated effective 30 days after publication of this Public Notice in the Federal Register, unless the Wireline Competition Bureau receives an opposition to the termination before that date.

Parties filing oppositions to the termination of this proceeding must file an original and four copies of each filing. The filings should reference WC Docket No. 04-424. Filings can be sent by hand or messenger delivery, by commercial overnight courier, or by first-class or overnight U.S. Postal Service mail (although we continue to experience delays in receiving U.S. Postal Service mail). The Commission's contractor, Natek, Inc., will receive hand-delivered or messenger-delivered paper filings for the Commission's Secretary at 236 Massachusetts Avenue, NE., Suite 110, Washington, DC 20002.

—The filing hours at this location are 8 a.m. to 7 p.m.

—All hand deliveries must be held together with rubber bands or fasteners.

—Any envelopes must be disposed of before entering the building.

—Commercial overnight mail (other than U.S. Postal Service Express Mail and Priority Mail) must be sent to 9300 East Hampton Drive, Capitol Heights, MD 20743.

—U.S. Postal Service first-class mail, Express Mail, and Priority Mail should be addressed to 445 12th Street, SW., Washington, DC 20554.

All filings must be addressed to the Commission's Secretary, Marlene H. Dortch, Office of the Secretary, Federal Communications Commission, Room TW-A325, 445 12th Street, SW., Washington, DC 20554. Parties should also send a copy of their filings to Lynne Hewitt Engledow, Pricing Policy Division, Wireline Competition Bureau, Federal Communications Commission, Room 5-A361, 445 12th Street, SW., Washington, DC 20554, or by e-mail to lynne.engledow@fcc.gov. Parties shall also serve one copy with the Commission's copy contractor, Best Copy and Printing, Inc. (BCPI), Portals II, 445 12th Street, SW., Room CY-B402, Washington, DC 20554, (202) 488-5300, or via e-mail to fcc@bcpiweb.com.

Authority: 47 U.S.C. 152, 154, 155, 303; 47 CFR 0.291, 1.749.

Federal Communications Commission.
Thomas J. Navin,
Chief, Wireline Competition Bureau.

[FR Doc. E6-8408 Filed 5-30-06; 8:45 am]

BILLING CODE 6712-01-P